DEPARTMENT OF TRANSPORTATION

Federal Aviation Administration

14 CFR Part 39

[Docket No. FAA-2022-0876; Project Identifier AD-2021-00999-T]

RIN 2120-AA64

Airworthiness Directives; The Boeing Company Airplanes

AGENCY: Federal Aviation Administration (FAA), DOT.

ACTION: Proposed rule; withdrawal.

SUMMARY: The FAA is withdrawing a notice of proposed rulemaking (NPRM) that proposed to adopt a new airworthiness directive (AD) that would have applied to certain The Boeing Company Model 787-8, 787-9, and 787-10 airplanes. The NPRM was prompted by a report indicating that during regular pre-flight checks, multiple door assist handles failed by pulling loose from their lower attachment point in the doorway support bracket. The NPRM would have required, depending on airplane configuration, inspecting the forward and aft door assist handles for correct installation, installing a new retainer above the lower keyway of the support bracket assembly at certain locations, installing a placard on certain support bracket assemblies, re-identifying the support bracket assembly, and replacing the upper spring clip. Since issuance of the NPRM, the FAA has determined that the intended corrective actions do not address the unsafe condition. Accordingly, the NPRM is withdrawn.

DATES: As of March 22, 2024, the proposed rule, which was published in the Federal Register on September 22, 2022 (87 FR 57850), is withdrawn.

ADDRESSES: AD Docket: You may examine the AD docket at regulations.gov under Docket No. +FAA-2022-0876; or in person at Docket Operations between 9 a.m. and 5 p.m., Monday through Friday, except Federal holidays. The AD docket contains this AD action, any comments received, and other information. The street address for Docket Operations is Docket Operations, M-30, West Building Ground Floor, Room W12-140, 1200 New Jersey Avenue SE, Washington, DC 20590.

FOR FURTHER INFORMATION CONTACT: Brandon Lucero, Aviation Safety Engineer, FAA, 2200 South 216th St., Des Moines, WA 98198; phone: 206-231-3569; email: Brandon.Lucero@faa.gov.

SUPPLEMENTARY INFORMATION:

Background

The FAA issued an NPRM that proposed to amend 14 CFR part 39 by adding an AD that would apply to certain The Boeing Company Model 787-8, 787-9, and 787-10 airplanes. The NPRM was published in the Federal Register on September 22, 2022 (87 FR 57850). The NPRM was prompted by a report that during regular pre-flight checks, multiple door assist handles failed by pulling loose from their lower attachment point in the doorway support bracket. The NPRM proposed to require, depending on airplane configuration, inspecting the forward and aft door assist handles for correct installation, installing a new retainer above the lower keyway of the support bracket assembly at certain locations, installing a placard on certain support bracket assemblies, reidentifying the support bracket assembly, and replacing the upper spring clip.

The proposed actions were intended to address loose or detached door assist handles, which could result in injury to passengers, crew, or maintenance personnel due to falling out of the airplane when opening the door, and could limit exit from the airplane during a time-limited emergency evacuation.

Actions Since the NPRM Was Issued

Since issuance of the NPRM, the FAA has determined that the proposed corrective actions do not mitigate the unsafe condition. The FAA continues to work with Boeing to develop an acceptable corrective action and corresponding service information, and is considering further rulemaking to address the identified unsafe condition.

Withdrawal of the NPRM constitutes only such action and does not preclude the FAA from further rulemaking on this issue, nor does it commit the FAA to any course of action in the future.

Comments

The FAA received a comment from the Air Line Pilots Association, International (ALPA), who supported the NPRM without change.

The FAA received additional comments from Avianca Airlines and United Airlines. The following presents the comments received on the NPRM and the FAA's response to each comment.

Request To Change the Air Transport Association (ATA) of America Code

Avianca Airlines requested that paragraph (d), Subject, of the proposed AD be changed to “Code 25, Equipment and furnishings.” Avianca Airlines suggested the proposed AD should be consistent with the ATA chapter as classified by the service information. Boeing Requirements Bulletin B787-81205-SB250253-00 RB, Issue 001, dated June 18, 2021; and Boeing Requirements Bulletin B787-81205-SB250254-00 RB, Issue 001, dated February 22, 2021; are under the scope of ATA 25.

The FAA agrees with the change requested by the commenter, but because the FAA is withdrawing the NPRM, the request is no longer necessary.

Request To Include the Later Revisions for a Safran Service Bulletin

United Airlines Engineering concurred with the work scope and compliance time of the NPRM, but requested that the proposed AD include later revisions of Safran SB C355101-25-02 since it has been revised to Revision 3, dated July 16, 2021. Paragraph (h)(3) of the proposed AD covers only SAFRAN Service Bulletin C355101-25-02, Revision 2, dated February 24, 2021. The commenter requested that paragraph (h)(3) of the proposed AD be changed to “SAFRAN Service Bulletin C355101-25-02, Revision 2, dated February 24, 2021 or later.”

The FAA acknowledges the comment. However, because the NPRM is being withdrawn, the commenter's request is no longer necessary.

FAA's Conclusions

Upon further consideration, the FAA has determined that the NPRM does not adequately address the identified unsafe condition. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking (Docket No. FAA-2022-0876), which was published in the Federal Register on September 22, 2022 (87 FR 57850), is withdrawn.

Issued on March 15, 2024.
Victor Wicklund,
Deputy Director, Compliance & Airworthiness Division, Aircraft Certification Service.

[FR Doc. 2024-05913 Filed 3-21-24; 8:45 am]

BILLING CODE 4910-13-P